DEPARTMENT OF AGRICULTURE

Agricultural Marketing Service

7 CFR Part 1208

[Doc. No. AMS-FV-07-0077; FV-07-705-PR-2B]

RIN 0581-AC79

Processed Raspberry Promotion, Research, and Information Order; Delay of Referendum

AGENCY: Agricultural Marketing Service, Agriculture, USDA.

ACTION: Proposed rule and referendum order; delay of referendum.

SUMMARY: This action delays indefinitely the referendum to determine whether producers of raspberries for processing and importers of processed raspberries approve the issuance of the proposed Processed Raspberry Promotion, Research, and Information Order. The referendum was scheduled to be held March 22 through April 2, 2010. The Washington Red Raspberry Commission has asked for a delay in the referendum as it considers further modifications to its proposal.

FOR FURTHER INFORMATION CONTACT: Kimberly Coy, Marketing Specialist, Research and Promotion Branch, By, AMS, USDA, Stop 0244, Room 0634-S, 1400 Independence Avenue, SW., Washington, DC 20250-0244; telephone 202-720-9915 or (888) 720-9917 (toll free) or e-mail kimberly.coy@usda.gov.

SUPPLEMENTARY INFORMATION: On April 9, 2009, the Department published in the Federal Register a proposal to establish the proposed Processed Raspberry Promotion, Research, and Information Order (Proposed Order) (7 CFR part 1208) [74 FR 16266] and proposed referendum procedures [74 FR 16289]. A second proposal addressing the comments received for the Proposed Order was published in the February 8, 2010 issue of the Federal Register [75 FR 6131]. Included in that document was a Referendum Order for a referendum to be conducted among eligible producers of raspberries for processing and importers of processed raspberries to determine whether they favor issuance of the Proposed Order. The referendum was scheduled for the period March 22 through April 2, 2010. Notice of this Referendum Order was published in the February 8, 2010 issue of the Federal Register [75 FR 6131].

The Department of Agriculture (Department) received a request from the Washington Red Raspberry Commission (WRRC) on February 19, 2010 to delay the scheduled referendum. The WRRC has asked for a delay in the referendum as they consider further modifications to their proposal. Therefore, taking into consideration the WRRC request, the referendum scheduled for the period of March 22 through April 2, 2010 that appears in the Referendum Order published in the Federal Register on April 9, 2009 in 74 FR 16266 is hereby delayed indefinitely.

List of Subjects in 7 CFR Part 1208

Administrative practice and procedure, Advertising, Consumer information, Marketing agreements, Processed raspberries, Promotion, Reporting and recordkeeping requirements.

Authority: 7 U.S.C. 7411-7425; 7 U.S.C. 7401.

Dated: March 11, 2010.
David R. Shipman,
Acting Administrator, Agricultural Marketing Service.

[FR Doc. 2010-5757 Filed 3-18-10; 8:45 am]

BILLING CODE M